DEPARTMENT OF COMMERCE

National Oceanic and Atmospheric Administration

Submission for OMB Review; Comment Request; Atlantic Mackerel, Squid and Butterfish Amendment 14 Data Collection

The Department of Commerce will submit to the Office of Management and Budget (OMB) for clearance the following proposal for collection of information under the provisions of the Paperwork Reduction Act (44 U.S.C. Chapter 35).

Agency: National Oceanic and Atmospheric Administration (NOAA).

Title: Atlantic Mackerel, Squid and Butterfish Amendment 14 Data Collection.

OMB Control Number: 0648-0679.

Form Number(s): None.

Type of Request: Regular (Revision to an approved information collection).

Number of Respondents: 10,035.

Average Hours per Response: Pre-trip notification to observer program/Change from call to web based system, 5 minutes; Trip Cancellation notification to observer program/change from call to web-based, 1 minute; Released Catch Affidavit, 5 minutes; and Vessel Permit Swap Form, 5 minutes.

Burden Hours: 765.84.

Needs and Uses: The information collections under OMB Control No. 0648-0679, are used by several offices of NMFS, the United States Coast Guard, the Mid-Atlantic Fishery Management Council, the New England Fishery Management Council, state fishery management agencies, academic institutions, and other fishery research and management organizations to evaluate current management programs and future management proposals. In most cases, aggregated summaries are made available, but for law enforcement, mailings, or resource allocation problems, individual permit information is often required. All information collections are necessary for improved monitoring of the Atlantic mackerel, Squid, and Butterfish fisheries. There are changes to this collection due to the duplication of collection accounting of the Northeast region permit family of forms, 0648-0202, and those information collections are being removed from this OMB Control Number. These information collection include: Any forms related to Vessel Monitoring Systems (VMS); VMS Power Down Exemption; Exemption Programs Authorized for Federal Permit Holders, such as transfers at sea for Atlantic mackerel; permit applications; replacement/upgrades; and confirmation of permit history. The collection accounting for VTR submission has been added to the 0679-0212 collection. There are no changes to the information collections other than updated permit holder numbers.

Affected Public: Individuals or households, business or other for-profit organizations.

Frequency: On occasion, dependent on fishing activity.

Respondent's Obligation: Mandatory.

Legal Authority: The Magnuson-Stevens Fishery Conservation and Management Act (MSA).

This information collection request may be viewed at reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0679.

Dated: March 23, 2020.
Sheleen Dumas,
Department PRA Clearance Officer, Office of the Chief Information Officer, Commerce Department.

[FR Doc. 2020-06305 Filed 3-25-20; 8:45 am]

BILLING CODE 3510-22-P